DEPARTMENT OF COMMERCE

National Oceanic and Atmospheric Administration

RIN 0648-XC214

Fisheries of the Gulf of Mexico; Southeast Data, Assessment, and Review (SEDAR); Public Meeting

AGENCY: National Marine Fisheries Service (NMFS), National Oceanic and Atmospheric Administration (NOAA), Commerce.

ACTION: Notice of SEDAR 31 Gulf of Mexico Red Snapper Post-Data Workshop Webinar.

SUMMARY: The SEDAR 31 assessment of the Gulf of Mexico Red Snapper fishery will consist of a series of workshops and supplemental webinars. This notice is for a webinar associated with the Data Workshop of the SEDAR process. See SUPPLEMENTARY INFORMATION.

DATES: The SEDAR 31 Post-Data Workshop Webinar will be held on September 20, 2012, from 1 p.m. to 5 p.m. EDT. The established time may be adjusted as necessary to accommodate the timely completion of discussion relevant to the stock assessment process. Such adjustments may result in the meeting being extended from, or completed prior to the times established by this notice.

ADDRESSES: The webinar will be held via a GoToMeeting Webinar Conference. The webinar is open to members of the public. Those interested in participating should contact Ryan Rindone at SEDAR (see FOR FURTHER INFORMATION CONTACT) to request an invitation providing webinar access information. Please request meeting information at least 24 hours in advance.

FOR FURTHER INFORMATION CONTACT: Ryan Rindone, SEDAR Coordinator, 2203 N. Lois Ave., Suite 1100, Tampa FL 33607; telephone: (813) 348-1630; email: ryan.rindone@gulfcouncil.org

SUPPLEMENTARY INFORMATION: The Gulf of Mexico Fishery Management Council, in conjunction with NOAA Fisheries, has implemented the Southeast Data, Assessment and Review (SEDAR) process, a multi-step method for determining the status of fish stocks in the Southeast Region. SEDAR is a three-step process including: (1) Data Workshop, (2) Assessment Process including a workshop and webinars, (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico Fishery Management Council, NOAA Fisheries Southeast Regional Office, and NOAA Southeast Fisheries Science Center. Participants include data collectors and database managers; stock assessment scientists, biologists, and researchers; constituency representatives including fishermen, environmentalists, and NGOs; International experts; and staff of Councils, Commissions, and state and federal agencies.

SEDAR 31 Post-Data Workshop Webinar

Panelists will continue deliberations and discussions regarding data evaluation methodologies for the Gulf of Mexico Red Snapper prior to the completion of the Data Workshop Report.

Special Accommodations

This meeting is accessible to people with disabilities. Requests for auxiliary aids should be directed to the Council office (see FOR FURTHER INFORMATION CONTACT) at least 10 business days prior to the meeting.

Dated: August 29, 2012.
Tracey L. Thompson,
Acting Deputy Director, Office of Sustainable Fisheries, National Marine Fisheries Service.

[FR Doc. 2012-21689 Filed 8-31-12; 8:45 am]

BILLING CODE 3510-22-P